DEPARTMENT OF COMMERCE

National Oceanic and Atmospheric Administration

RIN 0648-XE348

Endangered Species; File No. 17225

AGENCY: National Marine Fisheries Service (NMFS), National Oceanic and Atmospheric Administration (NOAA), Commerce.

ACTION: Notice; issuance of permit.

SUMMARY: Notice is hereby given that the NMFS Northeast Fisheries Science Center (NEFSC), 166 Water Street, Woods Hole, MA 02543 [Responsible Party: Jon Hare, Ph.D.], has been issued a permit to take Atlantic sturgeon (Acipenser oxyrinchus oxyrinchus), loggerhead (Caretta caretta), Kemp's ridley (Lepidochelys kempii), green (Chelonia mydas), hawksbill (Eretmochelys imbricata) and leatherback (Dermochelys coriacea) sea turtles for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Amy Hapeman, (301) 427-8401.

SUPPLEMENTARY INFORMATION: On January 15, 2016, notice was published in the Federal Register (81 FR 2196) that a request for a scientific research permit to take Atlantic sturgeon, loggerhead Kemp's ridley, green, hawksbill and leatherback sea turtles had been submitted by the above-named organization. The requested permit has been issued under the authority of the Endangered Species Act of 1973, as amended (ESA; 16 U.S.C. 1531 et seq.) and the regulations governing the taking, importing, and exporting of endangered and threatened species (50 CFR parts 222-226).

Permit No. 17255 authorizes the NEFSC to conduct research on Atlantic sturgeon and sea turtles in Northwest Atlantic waters from Massachusetts to Florida, testing and evaluating gear modifications used within commercial fisheries in efforts to minimize or prevent future interactions with sea turtles and Atlantic sturgeon. Researchers may capture, measure, weigh, tag, genetic tissue sample, and photograph animals prior to release. The permit is valid for five years from the date of issuance.

Issuance of this permit, as required by the ESA, was based on a finding that such permit (1) was applied for in good faith, (2) will not operate to the disadvantage of such endangered or threatened species, and (3) is consistent with the purposes and policies set forth in section 2 of the ESA.

Dated: January 5, 2017.
Julia Harrison,
Chief, Permits and Conservation Division, Office of Protected Resources, National Marine Fisheries Service.

[FR Doc. 2017-00360 Filed 1-10-17; 8:45 am]

BILLING CODE 3510-22-P